NATIONAL SCIENCE FOUNDATION

Notice of Availability for Public Comment on the Interagency Ocean Observing Committee Draft Certification Criteria for Non-Federal Asset Integration Into IOOS

AGENCY: National Science Foundation (NSF).

ACTION: Notice of availability.

SUMMARY: The National Science Foundation publishes this notice on behalf of the Interagency Ocean Observation Committee (IOOC) to announce a 60-day public comment period for non-federal asset certification criteria. This draft certification criteria will be used to establish eligibility for non-federal assets to be integrated into the U.S. Integrated Ocean Observation System (IOOS) and to ensure compliance with all applicable standards and protocols. This criteria was developed in response to a requirement in the Integrated Coastal Ocean Observation System Act of 2009 (33 U.S.C. 3601-3610) and is applicable to all non-federal assets as defined in the Act, including Regional Information Coordination Entities (RICEs).

DATES: Written, faxed or emailed comments must be received no later than 5 p.m. eastern standard time on January 6, 2012.

ADDRESSES: The IOOC draft certification criteria is available for review from the IOOC Web site URL: http://www.iooc.us. For the public unable to access the internet, printed copies can be requested by contacting the IOOC Support Office at the address below. The public is encouraged to submit comments electronically to certification@oceanleadership.org. If you are unable to access the Internet, comments may be submitted via fax or regular mail. Faxed comments should be sent to (202) 332-8887 with Attn: IOOC Support Office. Comments may be submitted in writing to the Consortium for Ocean Leadership, Attention: IOOC Support Office, 1201 New York Avenue NW., 4th Floor, Washington, DC 20005.

FOR FURTHER INFORMATION CONTACT: For further information about this notice, please contact the IOOC Support Office, telephone: (202) 787-1622; Email: certification@oceanleadership.org.

SUPPLEMENTARY INFORMATION: On 30 March 2009, President Barack Obama signed into law the Integrated Coastal and Ocean Observation System Act of 2009. Among the requirements in the Act is a directive to the IOOC to “develop contract certification standards and compliance procedures for all non-Federal assets, including regional information coordination entities, to establish eligibility for integration into the System and to ensure compliance with all applicable standards and protocols established by the Council, and ensure that regional observations are integrated into the System on a sustained basis.” The IOOC chartered two working groups consisting of subject matter experts on IOOS data partners and regional entities to draft recommended certification criteria. The recommended criteria were approved by the IOOC on 20 October 2011 and further information on the specific criteria can be obtained by contacting the IOOC Support Office as directed in the section above.

The IOOC is the federal interagency group established to lead the interagency planning and coordination of ocean observing activities including IOOS, and is represented by federal agencies, with NOAA identified as the lead federal agency by for IOOS implementation and administration.

Dated: November 2, 2011.
Suzanne H. Plimpton,
Reports Clearance Officer, National Science Foundation.

[FR Doc. 2011-28731 Filed 11-4-11; 8:45 am]

BILLING CODE 7555-01-P